DEPARTMENT OF COMMERCE

International Trade Administration

[A-570-848]

Notice of Extension of Time Limit of Preliminary Results of Antidumping Duty Administrative Review: Freshwater Crawfish Tail Meat From the People's Republic of China

AGENCY: Import Administration, International Trade Administration, U.S. Department of Commerce.

SUMMARY: The Department of Commerce is extending the time limit of the preliminary results of the administrative review of the antidumping duty order on freshwater crawfish tail meat from the People's Republic of China. The period of review is September 1, 2000 through August 31, 2001. This extension is made pursuant to section 751(a)(3)(A) of the Tariff Act of 1930, as amended.

EFFECTIVE DATE: May 28, 2002.

FOR FURTHER INFORMATION CONTACT: Doug Campau or Maureen Flannery, AD/CVD Enforcement, Import Administration, International Trade Administration, U.S. Department of Commerce, 14th Street and Constitution Avenue, N.W., Washington D.C. 20230; telephone: (202) 482-1395 or (202) 482-3020, respectively.

SUPPLEMENTARY INFORMATION:

Applicable Statutes and Regulations

Unless otherwise indicated, all citations to the statute are references to the provisions of the Tariff Act of 1930, as amended (the Act). In addition, unless otherwise indicated, all citations to the Department's regulations are to the provisions codified at 19 CFR Part 351 (2001).

Statutory Time Limits

Section 751(a)(3)(A) of the Act requires the Department to issue the preliminary results of an administrative review within 245 days after the last day of the anniversary month of an order for which a review is requested and final results within 120 days after the date on which the preliminary results are published. However, if it is not practicable to complete the review within the time period, section 751(a)(3)(A) of the Act allows the Department to extend these deadlines to a maximum of 365 days and 180 days, respectively.

Background

On September 28, 2001, the Department of Commerce received a timely request from the Crawfish Processors Alliance, petitioner in this case, and the Louisiana Department of Agriculture & Forestry and Bob Odom, Commissioner, for an administrative review of the antidumping order on freshwater crawfish tail meat from the People's Republic of China for numerous companies for the period of September 1, 2000, through August 31, 2001, in accordance with 19 CFR section 351.213(b)(2) of the Department's regulations. Also, on September 28, 2001, China Kingdom Import & Export Co., Ltd., aka China Kingdoma Import & Export Co., Ltd., aka Zhongda Import & Export Co., Ltd., and Qingdao Zhengri Seafood Co., Ltd., which were included in the petitioner's request for review, requested a review of their own shipments. We published a notice of initiation of this antidumping duty administrative review on October 26, 2001. See Initiation of Antidumping and Countervailing Duty Administrative Reviews and Requests for Revocation in Part, 65 FR 54195 (October 26, 2001).

Extension of Time Limits for Preliminary Results

Due to the complexity of the issues in this case, it is not practicable to complete this review within the time limits mandated by section 751(a)(3)(A) of the Act and 19 CFR 351.213(h)(1) of the Department's regulations. For example, the Department requires additional time to gather information and solicit comments from interested parties regarding the surrogate valuation issue. Therefore, in accordance with section 751(a)(3)(A) of the Act and 19 CFR 351.213(h)(2) of the Department's regulations, the Department is extending the time limit for the completion of preliminary results. These preliminary results will now be due no later than September 30, 2002.

This notice is published pursuant to sections 751(a)(1) and 777(i)(1) of the Act.

Dated: May 20, 2002
Joseph A. Spetrini,
Deputy Assistant Secretary for Import Administration, Group III.

[FR Doc. 02-13272 Filed 5-24-02; 8:45 am]

BILLING CODE 3510-DS-S